DEPARTMENT OF AGRICULTURE

Forest Service

Information Collection: Good Neighbor Agreement With State Cooperators

AGENCY: Forest Service, USDA.

ACTION: Notice; correction.

SUMMARY: The Forest Service is correcting a notice that appeared in the Federal Register on December 9, 2014, (79 FR 73026). This correction replaces the link listed for the Good Neighbor Agreement instruments and associated administrative forms for this new information collection request. It does not change the date comments must be received by.

DATES: Comments must be received in writing on or before February 9, 2015 to be assured of consideration. Comments received after that date will be considered to the extent practicable.

ADDRESSES: Comments concerning this notice should be addressed to Jake Donnay, Legislative Affairs, USDA Forest Service, 1400 Independence Ave. SW., Mailstop 1130, Washington, DC 20250-1130. Comments also may be submitted via facsimile to 202-205-1225 or by email to: jacobsdonnay@fs.fed.us.

All comments, including names and addresses when provided, will be placed in the record and available for public viewing and copying. The public may inspect comments received at U.S. Department of Agriculture, Forest Service, 201 14th Street SW., 4th floor, 4CE, Washington, DC, during normal business hours. Visitors are encouraged to call ahead to 202-205-1637 to facilitate entry. The public may request an electronic copy of the draft supporting statement and/or any comments received be sent via return email. Requests should be emailed to jacobsdonnay@fs.fed.us.

FOR FURTHER INFORMATION CONTACT: Jake Donnay, Legislative Affairs at USDA Forest Service, 202-205-1617. Individuals who use telecommunication devices for the deaf (TDD) may call the Federal Information Relay Service (FIRS) at 1-800-877-8339 twenty-four hours a day, every day of the year, including holidays.

SUPPLEMENTARY INFORMATION: In the Federal Register of December 9, 2014, in FR Doc. 2014-28746, on page 73026, in column 3, the paragraph before the heading “Estimate of Annual Burden” replace www.fs.fed.us.gov/farmbill/gna.shtml with the following http://www.fs.fed.us/farmbill/gna.shtml.

Dated: December 10, 2014.
Brian Ferebee,
Acting Associate Deputy Chief, National Forest System.

[FR Doc. 2014-29263 Filed 12-10-14; 4:15 pm]

BILLING CODE 3411-15-P